FEDERAL ELECTION COMMISSION

Sunshine Act Notices

AGENCY: Federal Election Commission.

Cancellation

Date and Time: Wednesday, April 14, 2010, at 11 a.m.

Place: 999 E Street, NW., Washington, DC (Ninth Floor).

Status: This hearing has been canceled.

Audit Hearing: Biden For President, Inc.

* * * * *

Date and Time: Thursday, April 15, 2010, at 10 a.m.

Place: 999 E Street, NW., Washington, DC (Ninth Floor).

Status: This Meeting Will Be Open To The Public.

Items To Be Discussed

Correction and Approval of Minutes.

Report of the Audit Division on the Tennessee Democratic Party (TDP).

Report of the Audit Division on Friends for Menor Committee.

2010 Rulemaking Schedule.

Management and Administrative Matters.

Individuals who plan to attend and require special assistance, such as sign language interpretation or other reasonable accommodations, should contact Darlene Harris, Acting Commission Secretary, at (202) 694-1040, at least 72 hours prior to the hearing date.

Person to Contact for Information: Judith Ingram, Press Officer, Telephone: (202) 694-1220.

Darlene Harris,
Acting Secretary of the Commission.

[FR Doc. 2010-8452 Filed 4-14-10; 8:45 am]

BILLING CODE 6715-01-M